DEPARTMENT OF HEALTH AND HUMAN SERVICES

National Institutes of Health

Center For Scientific Review; Amended Notice of Meeting

Notice is hereby given of a change in the meeting of the Clinical and Integrative Diabetes and Obesity Study Section, June 05, 2014, 08:00 a.m. to June 06, 2014, 06:00 p.m., Residence Inn Bethesda, 7335 Wisconsin Avenue, Bethesda, MD, 20814 which was published in the Federal Register on May 07, 2014, 79 FR 26261.

The meeting will be held on June 5, 2014. The meeting location and time remain the same. The meeting is closed to the public.

Dated: May 9, 2014.
Carolyn Baum,
Program Analyst, Office of Federal Advisory Committee Policy.

[FR Doc. 2014-11144 Filed 5-14-14; 8:45 am]

BILLING CODE 4140-01-P